DEPARTMENT OF HOMELAND SECURITY

Transportation Security Administration

Notice of Intent To Request Renewal From the Office of Management and Budget (OMB) of a Current Public Collection of Information; Airport Security

AGENCY: Transportation Security Administration (TSA), Department of Homeland Security (DHS).

ACTION: Notice.

SUMMARY: TSA invites public comment on a currently approved public information collection requirement abstracted below that will be submitted to OMB for renewal in compliance with the Paperwork Reduction Act.

DATES: Send your comments by April 4, 2005.

ADDRESSES: Comments may be mailed or delivered to Katrina Wawer, Information Collection Specialist, Office of Transportation Security Policy, TSA-9, Transportation Security Administration, 601 South 12th Street, Arlington, VA 22202-4220.

FOR FURTHER INFORMATION CONTACT: Katrina Wawer at the above address or by telephone at 571-227-1995.

SUPPLEMENTARY INFORMATION: In accordance with the Paperwork Reduction Act of 1995, (44 U.S.C. 3501 et seq.), an agency may not conduct or sponsor, and a person is not required to respond to a collection of information, unless it displays a valid OMB control number. Therefore, in preparation for submission to renew clearance of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

1652-0002, Airport Security, 49 CFR part 1542. The Federal Aviation Administration (FAA) initially required this collection under 14 CFR part 107 (now 49 CFR part 1542) and cleared under OMB control number 2120-0656. The responsibility for the collection has been transferred to TSA from FAA and assigned OMB control number 1652-0002. Part 1542, Airport Security, implements the provisions of the Aviation Security Improvement Act and the Aviation and Transportation Security Act, as amended, that relates to the security of persons and property at airports operating in commercial air transportation. TSA is seeking renewal of this information collection because airport security programs are needed to ensure protection of persons and property in air transportation against acts of terrorism, to ensure passenger screening procedures are effective, and that information is available to comply with Congressional reporting requirements. The affected public is an estimated 445 regulated airport operators. The current estimated annual burden is 509,203 hours annually.

Issued in Arlington, Virginia January 28, 2005.
Lisa S. Dean,
Privacy Officer.

[FR Doc. 05-1927 Filed 2-1-05; 8:45 am]

BILLING CODE 4910-62-P